DEPARTMENT OF AGRICULTURE

Submission for OMB Review; Comment Request

April 23, 2014.

The Department of Agriculture will submit the following information collection requirement(s) to OMB for review and clearance under the Paperwork Reduction Act of 1995, Public Law 104-13 on or after the date of publication of this notice. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725—17th Street NW., Washington, DC, 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by May 29, 2014. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: Local Food Marketing Directories and Survey.

OMB Control Number: 0581-NEW.

Summary of Collection: The Marketing Services Division of USDA's Agricultural Marketing Service identifies marketing opportunities, provides analysis to help take advantage of those opportunities and develops and evaluates solutions including improving direct-to-customer marketing activities. Section 203(a) of the Agricultural Marketing Act of 1946, (7 U.S.C. 1621-1627), as amended, directs and authorizes the Secretary of Agriculture “to determine the needs and develop or assist in the development of plans for efficient facilities and methods of operating such facilities. In addition, the Farmer-to-Consumer Direct Marketing Act of 1976 supports USDA's work to enhance the effectiveness of direct marketing, such as the development of farmers markets, on-farm markets, CSA's and food hubs. On-farm markets, community supported agriculture (CSA) as well as food hubs comprise an integral part of the urban/farm linkage and have continued to rise in popularity, mostly due to the growing customer interest in obtaining fresh products directly from the farm.

Need and Use of the Information: On-farm markets, CSAs, and food hubs serve different parts of the food marketing chain, but all focus on the small-to-medium-sized agricultural producers. The survey will cover topics such as: characteristics and history of on-farm markets; CSAs and food hubs; types of products sold, including fresh, locally-grown farm products; location of the markets, special events, marketing methods, participation in federal programs designed to increase consumption of fresh fruits and vegetables. The data collected will be used to build three web-based directories and describe the characteristics of each and identify trends in their communities.

Description of Respondents: Farm operators that operate on-farm stores, operators of Community Supported Agriculture (CSA's), farm operations, and operators of food hubs.

Number of Respondents: 56,750.

Frequency of Responses: Annually.

Total Burden Hours: 355.

Charlene Parker,
Departmental Information Collection Clearance Officer.

[FR Doc. 2014-09626 Filed 4-28-14; 8:45 am]

BILLING CODE 3410-02-P